DEPARTMENT OF TRANSPORTATION

Federal Aviation Administration

Notice of Intent to Rule on Applications to Impose and Use the Revenue From a Passenger Facility Charge (PFC) at Francisco C. Ada/Saipan International, Rota International, and Tinian International Airports, MP

AGENCY: Federal Aviation Administration (FAA), DOT.

ACTION: Notice of intent to rule on applications.

SUMMARY: The FAA proposes to rule and invites public comment on the applications to impose and use the revenue from a PFC at Francisco C. Ada/Saipan International (GSN), Rota International (GRO), and Tinian International (TNI) Airports under the provisions of the 49 United States Code (U.S.C.) 40117 and part 158 of the Federal Aviation Regulations (14 CFR part 158).

DATES: Comments must be received on or before October 12, 2004.

ADDRESSES: Comments on this application may be mailed or delivered in triplicate to the FAA at the following address: Federal Aviation Administration, Airports Division, 15000 Aviation Blvd., Room 3012, Lawndale, CA 90261, or Honolulu Airports District Office, Box 50244, 300 Ala Moana Blvd., Room 7-128, Honolulu, HI 96850. In addition, one copy of any comments submitted to the FAA must be mailed or delivered to Mr. Carlos H. Salas, Executive Director, Commonwealth Ports Authority, at the following address: Saipan International Airport, P.O. Box 501055, Saipan, MP 96950-1055. Air carriers and foreign air carriers may submit copies of written comments previously provided to the Commonwealth Ports Authority under section 158.23 of part 158.

FOR FURTHER INFORMATION CONTACT: Gordon K. Wong, Civil Engineer, Honolulu Airports District Office, 300 Ala Moana Blvd., Room 7-128, Honolulu, HI 96850, Telephone: (808) 541-3565. The applications may be reviewed in person at this same location.

SUPPLEMENTARY INFORMATION: The FAA proposes to rule and invites public comment on the applications to impose and use the revenue from a PFC at the Francisco C. Ada/Saipan International, Rota International, and Tinian International Airports under the provisions of the 49 United States Code (U.S.C.) 40117 and part 158 of the Federal Aviation Regulations (14 CFR part 158).

On July 23, 2004, the FAA determined that the application to impose and use the revenue from a PFC submitted by the Commonwealth Ports Authority, was substantially complete within the requirements of section 158.25 of part 158. The FAa will approve or disapprove the applications, in whole or in part, no later than October 21, 2004.

The following is a brief overview of the impose and use applications Nos. 04-01-C-00-GSN; 04-01-C-00-GRO; 40-01-C-00-TNI:

Level of proposed PFC: $4.50.

Proposed charge effective date: January 1, 2005.

Proposed charge expiration date: August 1, 2016.

Total estimated PFC revenue: $33,442,548.

Brief description of the proposed projects: At GSN: Electrical Upgrade/Generator, Conversion of Restaurant to Holding Room Sewerline Connection, Enclosure and Air Conditioning of Terminal Corridor, Environmental Assessment for Taxilane/Hardstand, Connecting Taxiway, Storm Drainage Master Plan, Parallel Taxiway, Aircraft Waste Disposal, Perimeter Fencing, New Aircraft Rescue and Firefighting (ARFF) Vehicle, Environmental Assessment for taxiways, Flight Information Display, Radio Communications Upgrade, Runway 7/25 Rehabilitation—Phase I and II, ARFF Training Facility (Burn Pit), Noise Mitigation, Airport Security Enhancement, ARFF Training Facility (Classroom), Airport Terminal Roof Replacement, Airport Runway Safety Area Improvement, PFC Implementation and Administration, Terminal Modernization Program Phase 1; at GRO: Aprom Expansion, Air Conditioning Arrival Area, Runway Rehabilitation, Airport Visual Guidance System, Environmental Assessment for Runway 9/27 Extension, Design and Construct Runway 9/27 Extension; at TNI: New Runway Improvement, ARFF Vehicle.

Class or classes of air carriers which the public agency has requested not be required to collect PFCs: None.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice and other documents germane to the application in person at the Commonwealth Ports Authority.

Issued in Lawndale, California, on August 16, 2004.
Jaime Durán,
Acting Manager, Planning and Programming Branch, Western-Pacific Region.

[FR Doc. 04-20494 Filed 9-9-04; 8:45 am]

BILLING CODE 4901-13-M